DEPARTMENT OF VETERANS AFFAIRS

[OMB Control No. 2900-0897]

Agency Information Collection Activity: Statement of Assurance of Compliance With 85 Percent Enrollment Ratios; Statement of Assurance of Compliance With 85 Percent Enrollment Ratios Continuation Sheet

AGENCY: Veterans Benefits Administration, Department of Veterans Affairs.

ACTION: Notice.

SUMMARY: Veterans Benefits Administration, Department of Veterans Affairs (VA), is announcing an opportunity for public comment on the proposed collection of certain information by the agency. Under the Paperwork Reduction Act (PRA) of 1995, Federal agencies are required to publish notice in the Federal Register concerning each proposed collection of information, including each proposed revision of a currently approved collection, and allow 60 days for public comment in response to the notice.

DATES: Comments must be received on or before November 22, 2024.

ADDRESSES: Comments must be submitted through www.regulations.gov.

FOR FURTHER INFORMATION CONTACT:

Program-Specific information: Nancy Kessinger, 202-632-8924, nancy.kessinger@va.gov.

VA PRA information: Maribel Aponte, 202-461-8900, vacopaperworkreduact@va.gov.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VBA invites comments on: (1) whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: Statement of Assurance of Compliance with 85 Percent Enrollment Ratios; Statement of Assurance of Compliance with 85 Percent Enrollment Ratios Continuation Sheet, VA Form 22-10215; VA Form 22-10215a.

OMB Control Number: 2900-0897.

Type of Review: Revision of a currently approved collection.

Abstract: The VA uses data from the VA Form 22-10215 and VA Form 22-10215a for this information collection to ensure the compliance of IHLs and NCD training institutions that are approved by the VA to ensure that no more than 85% of students in any approved program are students in receipt of financial support from the educational institution or by VA under title 38, U.S.C., or under title 10, U.S.C. Without this information, VA might pay benefits in error. Except as otherwise provided by regulation, VA shall not approve an enrollment in any course for an eligible Veteran, not already enrolled, for any period during which more than 85 percent of the students enrolled in the course are having all or part of their tuition, fees or other charges paid for them by the educational institution or by VA under title 38, U.S.C., or under title 10, U.S.C. This is known as the 85/15 Rule and is applicable to Institutions of Higher Learning (IHLs) and Non-College Degree postsecondary schools (NCDs). The requirements apply to all courses, not otherwise exempt, or waived, offered by all educational institutions, regardless of whether the institution is degree-granting, proprietary profit, proprietary nonprofit, eleemosynary, public and/or tax-supported. These schools are required to submit information necessary to determine if their programs of training are approved for the payment of VA educational assistance. This specified information is submitted either to VA or to the State Approving Agency (SAA) having jurisdiction over that school.

Affected Public: Educational Institutions.

Estimated Annual Burden: 1,814 hours.

Estimated Average Burden per Respondent: 60 minutes.

Frequency of Response: Quarterly.

Estimated Number of Respondents: 1,814.

(Authority: 44 U.S.C. 3501 et seq.)

Dorothy Glasgow,
VA PRA Clearance Officer, (Alt.), Office of Enterprise and Integration/Data Governance Analytics, Department of Veterans Affairs.

[FR Doc. 2024-21704 Filed 9-20-24; 8:45 am]

BILLING CODE 8320-01-P